DEPARTMENT OF TRANSPORTATION

Federal Aviation Administration

14 CFR Part 39

[Docket No. 99-CE-80-AD; Amendment 39-12602; AD 2002-01-10]

RIN 2120-AA64

Airworthiness Directives; Raytheon Aircraft Company Beech Models 65-90, 65-A90, 65-A90-1, 65-A90-4, B90, C90, C90A, E90, and H-90 Airplanes

AGENCY: Federal Aviation Administration, DOT.

ACTION: Final rule.

SUMMARY: This amendment adopts a new airworthiness directive (AD) that applies to certain Raytheon Aircraft Company (Raytheon) Beech Models 65-90, 65-A90, 65-A90-1, 65-A90-4, B90, C90, C90A, E90, and H-90 airplanes. This AD requires you to repetitively inspect the main landing gear upper torque knees and lower torque knees for evidence of fatigue cracks; and replace any torque knee with evidence of fatigue cracks. This AD is the result of reports of many incidents of main landing gear torque knees cracking or breaking on the above-referenced airplanes. The actions specified by this AD are intended to detect and replace cracked main landing gear torque knees, which could result in failure of the main landing gear and consequent loss of control of the airplane during takeoff, landing, or other ground operations.

DATES: This AD becomes effective on February 22, 2002.

The Director of the Federal Register approved the incorporation by reference of certain publications listed in the regulations as of February 22, 2002.

ADDRESSES: You may get the service information referenced in this AD from Raytheon Aircraft Company, P.O. Box 85, Wichita, Kansas 67201-0085; telephone: (800) 429-5372 or (316) 676-3140; or on the Internet at <http://www.raytheonaircraft.com/support/pubs/pdf/sb/32-3134r1.pdf> and <http://www.raytheonaircraft.com/support/pubs/pdf/sb/32-3116.pdf>. These files are in Adobe Portable Document Format. The Acrobat Reader is available at <http://www.adobe.com/>. You may view this information at the Federal Aviation Administration (FAA), Central Region, Office of the Regional Counsel, Attention: Rules Docket No. 99-CE-80-AD, 901 Locust, Room 506, Kansas City, Missouri 64106; or at the Office of the Federal Register, 800 North Capitol Street, NW., suite 700, Washington, DC.

FOR FURTHER INFORMATION CONTACT: Mr. Steven E. Potter, Aerospace Engineer, FAA, Wichita Aircraft Certification Office, 1801 Airport Road, Room 100, Wichita, Kansas 67209; telephone: (316) 946-4124; facsimile: (316) 946-4407.

SUPPLEMENTARY INFORMATION:

Discussion

What Events Have Caused This AD?

The FAA has received reports of many incidents of fatigue cracks occurring on main landing gear torque knees. There have been at least four reports where the main landing gear separated from the airplane.

The cause of this problem is cumulative fatigue damage on the main landing gear torque knees.

What Is the Potential Impact if FAA Took No Action?

This condition, if not corrected, could result in the failure of the main landing gear while the airplane is in operation with consequent loss of control of the airplane during takeoff, landing, or other ground operations.

Has FAA Taken Any Action to This Point?

We issued a proposal to amend part 39 of the Federal Aviation Regulations (14 CFR part 39) to include an AD that would apply to certain Raytheon Beech Models 65-90, 65-A90, 65-A90-1, 65-A90-4, B90, C90, C90A, E90, and H-90 airplanes. This proposal was published in the Federal Register as a notice of proposed rulemaking (NPRM) on August 27, 2001 (66 FR 44988). The NPRM proposed to require you to repetitively inspect the main landing gear upper torque knees and lower torque knees for evidence of fatigue cracks; and replace any torque knee with evidence of fatigue cracks.

Was the Public Invited to Comment?

The FAA encouraged interested persons to participate in the making of this amendment. We did not receive any comments on the proposed rule or on our determination of the cost to the public.

FAA's Determination

What is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How Many Airplanes Does This AD Impact?

We estimate that this AD affects 2,124 airplanes in the U.S. registry.

What Is the Cost Impact of This AD on Owners/Operators of the Affected Airplanes?

We estimate the following costs to inspect the landing gear torque knees:

Labor cost | Parts cost per airplane | Total cost per airplane | Total cost U.S. operators
20 workhours × $60 per hour = $1200 | $50 | $1,250 | $1,250 × 2,124 = $2,655,000.

The manufacturer will allow warranty credit to the extent noted in the service bulletin.

These costs only take into account the costs of the initial inspection. We have no way of determining the number of repetitive inspections each owner/operator will incur over the life of the affected airplane.

We estimate the following costs to do any necessary torque knee replacements that would be required based on the results of the inspection. We have no way of determining the number of airplanes that may need such replacement:

Labor cost | Parts cost per airplane | Total cost per airplane
8 workhours × $60 per hour = $480 | $3,286 | $3,766

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2002-01-10 Raytheon Aircraft Company: Amendment 39-12602; Docket No. 99-CE-80-AD.

(a) What airplanes are affected by this AD? This AD affects the following Beech airplane models and serial numbers that are certificated in any category:

Model | Serial Nos.
65-90, 65-A90, B90, C90, and C90A | LJ-1 through LJ-1559.
65-A90-1 | LM-1 through LM-141.
65-A90-4 | LU-1 through LU-16.
E90 | LW-1 through LW-347.
H-90 | LL-1 through LL-61.

(b) Who must comply with this AD? Anyone who wishes to operate any of the above airplanes must comply with this AD.

(c) What problem does this AD address? The actions specified by this AD are intended to detect and replace cracked main landing gear torque knees, which could result in failure of the main landing gear with consequent loss of control of the airplane during takeoff, landing, or other ground operations.

(d) What actions must I accomplish to address this problem? To address this problem, you must accomplish the following:

Actions | Compliance | Procedures
(1) Inspect the main landing gear upper torque knee and lower torque knee for fatigue cracks | Inspect within the next 100 hours time-in-service (TIS) after February 22, 2002 (the effective date of this AD), and thereafter at intervals not to exceed 1,000 hours TIS | Do the action following the Accomplishment Instructions paragraph of Raytheon Aircraft Mandatory Service Bulletin SB 32-3134, Revision 1, Revised: July 1999, and the applicable airplane maintenance manual.
(2) If fatigue cracks are found in the main landing gear torque knees during any inspection required by this AD, replace the cracked torque knees | Before further flight after the inspection | Do the action following the Accomplishment Instructions paragraph of Raytheon Aircraft Recommended Service Bulletin SB 32-3116, Issued: October 1999, and the applicable airplane model maintenance manual.
(3) When both the left and right main landing gear upper and lower torque knees are replaced with new upper torque knees (part number 50-810032-12) and new lower torque knees (part number 50-810295-25), the repetitive inspection requirement of this AD is no longer required | You may replace all torque knees at any time, except for those torque knees that are found with evidence of fatigue cracks. Such torque knees must be replaced before further flight, as required by paragraph (d)(2) of this AD | Do the action following the Accomplishment Instructions paragraph of Raytheon Aircraft Recommended Service Bulletin SB 32-3116, Issued: October 1999, and the applicable airplane maintenance manual.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Steven E. Potter, Aerospace Engineer, Wichita Aircraft Certification Office, FAA, 1801 Airport Road, Room 100, Wichita, Kansas 67209; telephone: (316) 946-4124; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Raytheon Mandatory Service Bulletin SB 32-3134, Revision 1, Revised: July 1999, and Raytheon Recommended Service Bulletin SB 32-3116, Issued: October 1999. The Director of the Federal Register approved this incorporation by reference under 5 U.S.C. 552(a) and 1 CFR part 51. You can get copies from Raytheon Aircraft Company, P.O. Box 85, Wichita, Kansas 67201-0085; or on the Internet at <http://www.raytheonaircraft.com/support/pubs/pdf/sb/32-3134r1.pdf> and <http://www.raytheonaircraft.com/support/pubs/pdf/sb/32-3116.pdf>. These files are in Adobe Portable Document Format. The Acrobat Reader is available at <http://www.adobe.com/>. You can look at copies at the FAA, Central Region, Office of the Regional Counsel, 901 Locust, Room 506, Kansas City, Missouri, or at the Office of the Federal Register, 800 North Capitol Street, NW., suite 700, Washington, DC.

(i) When does this amendment become effective? This amendment becomes effective on February 22, 2002.

Issued in Kansas City, Missouri, on January 10, 2002.
Michael Gallagher,
Manager, Small Airplane Directorate, Aircraft Certification Service.

[FR Doc. 02-1206 Filed 1-18-02; 8:45 am]

BILLING CODE 4910-13-U